SECURITIES AND EXCHANGE COMMISSION

Sunshine Act Meeting

Notice is hereby given, pursuant to the provisions of the Government in the Sunshine Act, Public Law 94-409, that the Securities and Exchange Commission will hold the following meeting during the week of April 2, 2007:

An Open Meeting will be held on Wednesday, April 4, 2007 at 10 a.m. in the Auditorium, Room L-002.

The subject matter of the Open Meeting scheduled for Wednesday, April 4, 2007 will be:

The Commission will consider its staff's approach to (1) the Public Company Accounting Oversight Board's (“PCAOB”) Proposed Auditing Standard—An Audit of Internal Control Over Financial Reporting That Is Integrated with An Audit of Financial Statements; and (2) the PCAOB's Proposed Auditing Standard—Considering and Using the Work of Others in an Audit.

Commissioner Casey, as duty officer, determined that no earlier notice thereof was possible.

At times, changes in Commission priorities require alterations in the scheduling of meeting items.

For further information and to ascertain what, if any, matters have been added, deleted or postponed, please contact:

The Office of the Secretary at (202) 551-5400.

Dated: March 29, 2007.
Florence E. Harmon,
Deputy Secretary.

[FR Doc. E7-6124 Filed 4-2-07; 8:45 am]

BILLING CODE 8010-01-P